DEPARTMENT OF VETERANS AFFAIRS

38 CFR Part 21

RIN 2900-AJ23

Information Collection Needed in VA's Flight-Training Programs

AGENCIES: Department of Veterans Affairs.

ACTION: Proposed rule.

SUMMARY: We propose to amend our educational assistance and educational benefit regulations concerning flight-training courses for which the Department of Veterans Affairs (VA) pays for eligible students. In this regard, we propose to require that flight schools offering such flight-training courses maintain records regarding students to whom VA makes payments. The proposed rule is intended to provide information to VA for determining compliance with requirements for VA payments to students for pursuing flight-training courses. Also, when VA, rather than a separate State entity, is the approving agency, the proposed rule is intended to provide information to VA for determining whether to approve a flight-training course.

DATES: Comments must be received on or before June 2, 2000.

ADDRESSES: Mail or hand-deliver written comments to: Director, Office of Regulations Management (02D), Department of Veterans Affairs, 810 Vermont Ave., NW, Room 1154, Washington, DC 20420; or fax comments to (202) 273-9289; or e-mail comments to “OGCRegulations@mail.va.gov”. Comments should indicate that they are submitted in response to “RIN 2900-AJ23.” All comments received will be available for public inspection in the Office of Regulations Management, Room 1158, between the hours of 8:00 a.m. and 4:30 p.m., Monday through Friday (except holidays).

FOR FURTHER INFORMATION CONTACT: William G. Susling, Jr., Education Advisor, Education Service, Veterans Benefits Administration, Department of Veterans Affairs, 202-273-7187.

SUPPLEMENTARY INFORMATION: VA payments are provided to eligible individuals for pursuit of approved flight-training courses under the Montgomery GI Bill—Active Duty, Montgomery GI Bill—Selective Reserve, and Post-Vietnam Era Veterans' Educational Assistance programs.

Educational institutions are required to make available for Government inspection records and accounts, pertaining to veterans who received VA educational assistance, which VA determines necessary to ascertain institutional compliance with requirements for assistance (38 U.S.C. 3676 and 3690(c)). We propose to add 38 CFR 21.4263(h)(3), which would require that flight schools offering approved flight-training courses maintain records as set out in the text portion of this document: i.e., various certificates, flight records, logs, invoices, account ledgers, instructor records, tuition records, and course and training records. It appears that these records regarding students receiving VA flight-training benefits are necessary to assist VA in determining that courses and students meet all requirements for payment of such benefits.

In addition, proposed § 21.4263(h)(3) requires flight schools to maintain those records under 38 U.S.C. 3676(b) and 3676(c)(4), (c)(5), (c)(6), (c)(7), and (c)(13) when VA, rather than a separate State approving agency, is the approving authority for flight-training courses. Maintaining the records specified in the proposed rule appears necessary to assist VA, when it is the approving authority, in determining whether it should approve a course.

This document also makes technical changes for purposes of clarification.

Paperwork Reduction Act

Under the Paperwork Reduction Act of 1995 (44 U.S.C. 3501-3520), a collection of information is set forth in the proposed 38 CFR 21.4263(h)(3). Accordingly, under section 3507(d) of the Act, VA has submitted a copy of this rulemaking action to the Office of Management and Budget (OMB) for its review of the proposed collection of information.

OMB assigns control numbers to collections of information it approves. VA may not conduct or sponsor, and a person is not required to respond to, a collection of information unless it displays a currently valid OMB control number.

Comments on the proposed collection of information should be submitted to the Office of Management and Budget, Attention: Desk Officer for the Department of Veterans Affairs, Office of Information and Regulatory Affairs, Washington, DC 20503, with copies mailed or hand-delivered to the Director, Office of Regulations Management (02D), Department of Veterans Affairs, 810 Vermont Ave., NW, Room 1154, Washington, DC 20420. Comments should indicate that they are submitted in response to “RIN 2900-AJ23.”

Title: Recordkeeping at Flight Schools.

Summary of collection of information: Proposed § 21.4263(h)(3) specifies records that flight schools are required to maintain to show that the courses and students are in compliance with requirements for payment of VA benefits and to maintain for VA approval purposes under 38 U.S.C. 3676(b) and 3676(c)(4), (c)(5), (c)(6), (c)(7), and (c)(13) when VA, rather than a separate State approving agency, is the approving authority for the particular flight-training courses.

Description of need for information and proposed use of information: The records appear necessary to assist VA in determining that courses and students meet all requirements for payment to students of VA flight-training benefits and, in cases when VA is the approving authority for flight-training courses, to assist VA in determining whether to approve a course.

Description of likely respondents: Flight schools.

Estimated number of respondents: 310 per year.

Estimated frequency of responses: On occasion.

Estimated burden per collection: 1/3 hour.

Estimated total annual reporting and recordkeeping burden: 667 hours.

The Department considers comments by the public on proposed collections of information in—

Evaluating whether the proposed collections of information are necessary for the proper performance of the functions of the Department, including whether the information will have practical utility; Evaluating the accuracy of the Department's estimate of the burden of the proposed collections of information, including the validity of the methodology and assumptions used; Enhancing the quality, usefulness, and clarity of the information to be collected; and Minimizing the burden of the collections of information on those who are to respond, including through the use of appropriate automated, electronic, mechanical, or other technological collection techniques or other forms of information technology, e.g., permitting electronic submission of responses.

OMB is required to make a decision concerning the collection of information contained in this proposed rule between 30 and 60 days after publication of this document in the Federal Register. Therefore, a comment to OMB is best assured of having its full effect if OMB receives it within 30 days of publication. This does not affect the deadline for the public to comment to the Department on the proposed rule.

Regulatory Flexibility Act

The Secretary of Veterans Affairs hereby certifies that the adoption of this proposed rule would not have a significant economic impact on a substantial number of small entities as they are defined in the Regulatory Flexibility Act, 5 U.S.C. 601-612. Adoption of this proposed rule would have a minuscule monetary effect, if any, on affected entities. Pursuant to 5 U.S.C. 605(b), this proposed rule, therefore, is exempt from the initial and final regulatory flexibility analyses requirements of sections 603 and 604.

The Catalog of Federal Domestic Assistance numbers for programs affected by this proposed rule are 64.120 and 64.124. This proposed rule would also affect the Montgomery GI Bill—Selected Reserve program which has no Catalog of Federal Domestic Assistance number.

List of Subjects in 38 CFR Part 21

Administrative practice and procedure, Armed forces, Civil rights, Claims, Colleges and universities, Conflict of interests, Defense Department, Education, Employment, Grant programs-education, Grant programs-veterans, Health care, Loan programs-education, Loan programs-veterans, Manpower training programs, Reporting and recordkeeping requirements, Schools, Travel and transportation expenses, Veterans, Vocational education, Vocational rehabilitation.

Approved: March 23, 2000.
Togo D. West, Jr.,
Secretary of Veterans Affairs.

For the reasons set forth in the preamble, VA proposes to amend 38 CFR part 21 (subparts D and L) as follows:

PART 21—VOCATIONAL REHABILITATION AND EDUCATION

Subpart D—Administration of Educational Assistance Programs

1. The authority citation for part 21, subpart D continues to read as follows:

Authority: 10 U.S.C. 2141 note, ch. 1606; 38 U.S.C. 501(a), chs. 30, 32, 34, 35, 36, unless otherwise noted.

21.4152 [Amended]

2. In § 21.4152, the introductory text of paragraph (b) is amended by removing “on VA.” and adding, in its place, “on VA:”; and paragraph (b)(4) is amended by removing “ § 21.4209.” and adding, in its place, §§ 21.4209 and 21.4263.”

3. In § 21.4263, paragraph (h)(3) is added to read as follows: § 21.4263 Approval of flight training courses.

* * * * *

(h) Nonaccredited courses. * * *

(3) A flight school must keep at a minimum the following records for each eligible veteran, servicemember, or reservist pursuing flight training:

(i) A copy of his or her private pilot certificate;

(ii) Evidence of completion of any prior training which may be a prerequisite for the course;

(iii) A copy of the medical certificate required by paragraph (a)(2) of this section for the courses being pursued and copies of all medical certificates (expired or otherwise) needed to support all periods of prior instruction received at the current school;

(iv) A daily flight log or copy thereof;

(v) A permanent ground school record;

(vi) A progress log;

(vii) An invoice of flight charges for individual flights or flight lessons for training conducted on a flight simulator or advanced flight training device;

(viii) Daily flight sheets identifying records upon which the 85-15 percent ratio may be computed;

(ix) A continuous meter record for each aircraft;

(x) An invoice or flight tickets signed by the student and instructor showing hour meter reading, type of aircraft, and aircraft identification number;

(xi) An accounts receivable ledger;

(xii) Individual instructor records;

(xiii) Engine log books;

(xiv) A record for each student above the private pilot level stating the name of the course in which the student is currently enrolled and indicating whether the student is enrolled under 14 CFR part 61, part 63, part 141, or part 142;

(xv) Records of tuition and accounts which are evidence of tuition charged and received from all students; and

(xvi) If training is provided under 14 CFR part 141, the records required by that part, or if training is provided under 14 CFR part 142, the records required by that part.

(Authority: 38 U.S.C. 3471, 3671, 3672, 3676, 3690(c))

* * * * *

Subpart L—Educational Assistance for Members of the Selected Reserve

4. The authority citation for part 21, subpart L continues to read as follows:

Authority: 10 U.S.C. ch. 1606; 38 U.S.C. 501(a), 512, ch. 36, unless otherwise noted.

21.7807 [Amended]

5. Section 21.7807 is amended by removing § 21.4209 and adding, in its place, §§ 21.4209 and 21.4263.

[FR Doc. 00-8072 Filed 3-31-00; 8:45 am]

BILLING CODE 8320-01-P